DEPARTMENT OF HEALTH AND HUMAN SERVICES

National Institutes of Health

Submission for OMB Review; 30-day Comment Request; NIH Office of Intramural Training & Education Application

SUMMARY: Under the provisions of Section 3507(a)(1)(D) of the Paperwork Reduction Act of 1995, the National Institutes of Health (NIH) has submitted to the Office of Management and Budget (OMB) a request for review and approval of the information collection listed below. This proposed information collection was previously published in the Federal Register on March 24, 2013, page 17935-17936 and allowed 60-days for public comment. One public comment was received. The purpose of this notice is to allow an additional 30 days for public comment. The Office of the Director (OD), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

FOR FURTHER INFORMATION CONTACT: To obtain a copy of the data collection plans and instruments or request more information on the proposed project contact: Dr. Patricia Wagner; Director of Admissions & Registrar; Office of Intramural Training & Education; National Institutes of Health; 2 Center Drive: Building 2/Room 2E06; Bethesda, Maryland 20892-0234; or call 240-476-3619 or Email your request, including your address to: wagnerpa@od.nih.gov. Formal requests for additional plans and instruments must be requested in writing.

Proposed Collection: NIH Office of Intramural Training & Education Application, 0925-0299 Revision, Office of the Director (OD), National Institutes of Health (NIH).

Need and Use of Information Collection: The Office of Intramural Training & Education (OITE) administers a variety of programs and initiatives to recruit pre-college through post-doctoral educational level individuals into the National Institutes of Health Intramural Research Program (NIH-IRP) to facilitate develop into future biomedical scientists. The proposed information collection is necessary in order to determine the eligibility and quality of potential awardees for traineeships in these programs. The applications for admission consideration include key areas such as: Personal information, eligibility criteria, contact information, student identification number, training program selection, scientific discipline interests, educational history, standardized examination scores, reference information, resume components, employment history, employment interests, dissertation research details, letters of recommendation, financial aid history, sensitive data, future networking contact, travel information, as well as feedback questions about interviews and application submission experiences. Sensitive data collected on the applicants, race, gender, ethnicity, disability, and recruitment method, are made available only to OITE staff members or in aggregate form to select NIH offices and are not used by the admission committee for admission consideration; optional to submit.

OMB approval is requested for 3 years. There are no costs to respondents other than their time. The total estimated annualized burden hours are 18,354.00.

Estimated Annualized Burden Hours
Type of respondent | Estimated number of respondents | Estimated number of responses annually per respondent | Estimated total annual burden hours | Estimated total annual burden hours
Summer Internship Program in Biomedical Research (SIP) | 6,820.0 | 1.0 | 1.0 | 6,820.00
Biomedical Engineering Summer Internship Program (BESIP) | 80.0 | 1.0 | 1.0 | 80.00
Post-baccalaureate Training Program (PBT) | 1,885.0 | 1.0 | 1.0 | 1,885.00
Community College Summer Enrichment Program (CCSEP) | 100.0 | 1.0 | 1.0 | 100.00
Technical Training Program (PBT) | 115.0 | 1.0 | 1.0 | 115.00
Graduate Partnerships Program (GPP)—Application (Select Institutional Partnerships) | 250.0 | 1.0 | 1.0 | 250.00
Graduate Partnerships Program (GPP)—Registration (Select Institutional Partnerships + Individual Partnership) | 140.0 | 1.0 | 1.0 | 140.00
National Graduate Student Research Conference (NGSRC) | 800.0 | 1.0 | 1.0 | 800.00
Undergraduate Scholarship Program (UGSP) | 200.0 | 1.0 | 1.0 | 200.00
Alumni Database | 1,900.0 | 1.0 | 1.0 | 1,900.00
UGSP—Certificate of Eligibility (Completed by Applicant) | 200.0 | 1.0 | 3/60 | 10.00
UGSP—Certificate of Eligibility (Completed by University Staff) | 200.0 | 1.0 | 15/60 | 50.00
UGSP—Deferment Form (Completed by Applicant) | 40.0 | 1.0 | 3/60 | 2.00
UGSP—Deferment Form (Completed by University Staff) | 40.0 | 1.0 | 15/60 | 10.00
Reference Recommendation Letters for All Programs | 23,235.0 | 1.0 | 15/60 | 5,808.75
Survey—Race-Ethnicity-Gender-Birth Year (25% Response Rate) | 3,073.0 | 1.0 | 3/60 | 153.65
Survey—Time to Complete Application Form (4% Response Rate) | 492.0 | 1.0 | 3/60 | 24.60
Survey—GPP Interview Experience (60% Response Rate) | 30.0 | 1.0 | 10/60 | 5.0
Totals | 39,600.0 | N/A | N/A | 18,354.00

Dated: July 1, 2013.
Richard Wyatt,
Executive Director, Office of Intramural Research, OD, National Institutes of Health.

[FR Doc. 2013-16887 Filed 7-12-13; 8:45 am]

BILLING CODE 4140-01-P